DEPARTMENT OF THE INTERIOR

National Park Service

[NPS-WASO-NAGPRA-NPS0034882; PPWOCRADN0-PCU00RP14.R50000]

Notice of Inventory Completion: Central Museum of History, Central Methodist University, Fayette, MO

AGENCY: National Park Service, Interior.

ACTION: Notice.

SUMMARY: The Central Museum of History, Central Methodist University has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Central Museum of History. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Central Museum of History at the address in this notice by December 19, 2022.

FOR FURTHER INFORMATION CONTACT: Dr. Robert P. Wiegers, Central Museum of History, 411 CMU Square, Fayette, MO 65248, telephone (660) 248-6341, email rwiegers@centralmethodist.edu.

SUPPLEMENTARY INFORMATION: Notice is here given in accordance with the Native American Graves Protection and Repatriation Act (NAGPRA), 25 U.S.C. 3003, of the completion of an inventory of human remains under the control of the Central Museum of History, Central Methodist University, Fayette, MO. The human remains were removed from Howard County, MO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Central Museum of History professional staff in consultation with representatives of the Apache Tribe of Oklahoma; Miami Tribe of Oklahoma; Seneca-Cayuga Nation (previously listed as Seneca-Cayuga Tribe of Oklahoma); and The Osage Nation (previously listed as Osage Tribe) (hereafter referred to as “The Consulted Tribes”).

History and Description of the Remains

At an unknown date, human remains representing, at minimum, two individuals were removed from a mound in Howard County, MO. The human remains include one cranium without mandible, a left mandible, right maxilla fragment, left femur, femur fragments, associated teeth, and bone fragments. No known individuals were identified. No associated funerary objects are present.

Determinations Made by the Central Museum of History, Central Methodist University

Officials of the Central Museum of History, Central Methodist University have determined that:

• Pursuant to 25 U.S.C. 3001(9), the human remains described in this notice are Native American based on a handwritten note attached to the human remains.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• The Treaty of 1808, also known as the treaty of Fort Clark, indicates that the land from which the Native American human remains were removed is the aboriginal land of The Osage Nation (previously listed as Osage Tribe).

• Pursuant to 43 CFR 10.11(c)(1), the disposition of the human remains may be to The Osage Nation (previously listed as Osage Tribe).

Additional Requestors and Disposition

Representatives of any Indian Tribe or Native Hawaiian organization not identified in this notice that wish to request transfer of control of these human remains should submit a written request with information in support of the request to Dr. Robert P. Wiegers, Central Museum of History, 411 CMU Square, Fayette, MO 65248, telephone (660) 248-6341, email rwiegers@centralmethodist.edu, by December 19, 2022. After that date, if no additional requestors have come forward, transfer of control of the human remains to The Osage Nation (previously listed as Osage Tribe) may proceed.

The Central Museum of History, Central Methodist University is responsible for notifying The Consulted Tribes that this notice has been published.

Dated: November 9, 2022.
Melanie O'Brien,
Manager, National NAGPRA Program.

[FR Doc. 2022-25128 Filed 11-17-22; 8:45 am]

BILLING CODE 4312-52-P